DEPARTMENT OF ENERGY

Federal Energy Regulatory Commission

[Docket No. RP04-14-002]

Maritimes & Northeast Pipeline, L.L.C.; Notice of Tariff Filing

December 3, 2003.

Take notice that on November 26, 2003, Maritimes & Northeast Pipeline, L.L.C. (Maritimes) tendered for filing as part of its FERC Gas Tariff, First Revised Volume No. 1, Sixth Revised Sheet No. 11, with an effective date of December 1, 2003.

Maritimes states that the purpose of this filing is to lower the Fuel Retainage Percentage to 1.10 percent effective December 1, 2003, for all shippers on the Maritimes system. Maritimes states that it agreed to lower the Fuel Retainage Percentage to resolve the issues raised by a shipper in this proceeding.

Maritimes states that copies of its filing have been mailed to all parties listed on the Official Service List in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00495 Filed 12-9-03; 8:45 am]

BILLING CODE 6717-01-P